DEPARTMENT OF THE INTERIOR

Fish and Wildlife Service

[FWS-R9-IA-2008-N0158; 96300-1671-0000-P5]

Receipt of Applications for Permit

AGENCY: Fish and Wildlife Service, Interior.

ACTION: Notice of receipt of applications for permit.

SUMMARY: The public is invited to comment on the following applications to conduct certain activities with endangered species and/or marine mammals.

DATES: Written data, comments or requests must be received by July 30, 2008.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

Applicant: Chattanooga Zoo, Chattanooga, TN, PRT-185779

The applicant requests a permit to import one captive-born female jaguar (Panthera onca) from Tatu Caretta, Casa Grande, Cordova, Argentina, for the purpose of enhancement of survival of the species.

Applicant: Laguna Vista Ranch Ltd, San Antonio, TX, PRT-180803

The applicant requests a permit authorizing take, interstate and foreign commerce of swamp deer (Rucervus duvaucelii), Eld's deer (Rucervus eldii) and lechwe (Kobus leche) from their captive herd for the purpose of enhancement of the survival of the species. This notification covers activities conducted by the applicant over a five-year period.

Applicant: James A. Badman, Mesa, AZ, PRT-180796

The applicant requests a permit to acquire from Wayne Hill, Winter Haven, FL, in interstate commerce 6 spotted pond turtles (Geoclemys hamiltonii) for the purpose of enhancement of propagation of the species.

Applicant: Cincinnati Zoo & Botanical Garden, Cincinnati, OH, PRT-184803

The applicant requests a permit to import one male captive-born Brazilian ocelot (Leopardus pardalis mitis) from the Granby Zoo, Quebec, Canada for the purpose of enhancement of the survival of the species through captive breeding.

Applicant: James A. Hall, Troy, PA, PRT-184468

The applicant requests a permit to import the sport-hunted trophy of one male bontebok (Damaliscus pygargus pygargus) culled from a captive herd maintained under the management program of the Republic of South Africa, for the purpose of enhancement of the survival of the species.

Applicant: Daniel L. Soliday, Perkasie, PA, PRT-185721

The applicant requests a permit to import the sport-hunted trophy of one male bontebok (Damaliscus pygargus pygargus) culled from a captive herd maintained under the management program of the Republic of South Africa, for the purpose of enhancement of the survival of the species.

Applicant: Richard R. Scott, Houston, TX, PRT-185800

The applicant requests a permit to import the sport-hunted trophy of one male bontebok (Damaliscus pygargus pygargus) culled from a captive herd maintained under the management program of the Republic of South Africa, for the purpose of enhancement of the survival of the species.

Applicant: Pat Crabtree, Weimar, TX, PRT-185760

The applicant requests a permit to import the sport-hunted trophy of one male bontebok (Damaliscus pygargus pygargus) culled from a captive herd maintained under the management program of the Republic of South Africa, for the purpose of enhancement of the survival of the species.

Endangered Marine Mammals and Marine Mammals

The public is invited to comment on the following applications for a permit to conduct certain activities with endangered marine mammals and/or marine mammals. The applications were submitted to satisfy requirements of the Endangered Species Act of 1973, as amended (16 U.S.C. 1531 et seq.) and/or the Marine Mammal Protection Act of 1972, as amended (16 U.S.C. 1361 et seq.), and the regulations governing endangered species (50 CFR part 17) and/or marine mammals (50 CFR part 18). Written data, comments, or requests for copies of the complete applications or requests for a public hearing on these applications should be submitted to the Director (address above). Anyone requesting a hearing should give specific reasons why a hearing would be appropriate. The holding of such a hearing is at the discretion of the Director.

Applicant: USGS Alaska Science Center, Anchorage, AK, PRT-690038

The applicant has requested amendment of the permit to take polar bears (Ursus maritimus) in Alaska for the collection of additional biological samples for the purpose of scientific research. This notification covers activities to be conducted by the applicant over the remainder of their five-year permit.

Concurrent with the publication of this notice in the Federal Register, the Division of Management Authority is forwarding copies of the above applications to the Marine Mammal Commission and the Committee of Scientific Advisors for their review.

Applicant: Peter E. Seda, Kennewick, WA, PRT-186019

The applicant requests a permit to import a polar bear (Ursus maritimus) sport hunted from the Gulf of Boothia polar bear population in Canada prior to February 18, 1997, for personal, noncommercial use.

Dated: June 13, 2008.
Lisa J. Lierheimer,
Senior Permit Biologist, Branch of Permits, Division of Management Authority.

[FR Doc. E8-14777 Filed 6-27-08; 8:45 am]

BILLING CODE 4310-55-P